DEPARTMENT OF ENERGY

Federal Energy Regulatory Commission

Combined Notice of Filings # 1

December 8, 2008.

Take notice that the Commission received the following electric corporate filings:

Docket Numbers: EC09-28-000.

Applicants: Wapsipinicon Wind Project LLC.

Description: Application for Authorization Under Section 203 of the Federal Power Act for the Disposition of Jurisdictional Facilities, Request for Expedited Consideration and Confidential Treatment.

Filed Date: 12/05/2008.

Accession Number: 20081205-5108.

Comment Date: 5 p.m. Eastern Time on Friday, December 19, 2008.

Docket Numbers: EC09-29-000.

Applicants: Smoky Hills Wind Project II, LLC.

Description: Application of Smoky Hills Wind Project II, LLC for Authorization Under Section 203 of the Federal Power Act, Request for Expedited Consideration and Confidential Treatment.

Filed Date: 12/05/2008.

Accession Number: 20081205-5139.

Comment Date: 5 p.m. Eastern Time on Friday, December 26, 2008.

Take notice that the Commission received the following exempt wholesale generator filings:

Docket Numbers: EG09-19-000.

Applicants: Hay Canyon Wind LLC.

Description: Notice of Self-Certification of Exempt Wholesale Generator Status of Hay Canyon Wind LLC.

Filed Date: 12/08/2008.

Accession Number: 20081208-5083.

Comment Date: 5 p.m. Eastern Time on Monday, December 29, 2008.

Take notice that the Commission received the following electric rate filings:

Docket Numbers: ER01-1266-009; ER01-1268-010; ER01-1269-009; ER01-1270-012; ER01-1271-010; ER01-1273-010; ER01-1277-009; ER01-1278-012; ER02-1213-008.

Applicants: Mirant Bowline, LLC; Mirant Canal, LLC; Mirant Chalk Point, LLC; Mirant Delta, LLC; Mirant Kendall, LLC; Mirant Mid-Atlantic, LLC; Mirant Potomac River, LLC; Mirant Potrero, LLC; Mirant Energy Trading, LLC.

Description: Mirant Bowline, LLC et al. submits Amendment to 6/6/08 filing of Notice of Non Material Change in Status and Order 697 Tariff Revisions.

Filed Date: 12/02/2008.

Accession Number: 20081204-0118.

Comment Date: 5 p.m. Eastern Time on Monday, December 15, 2008.

Docket Numbers: ER06-1135-003; ER02-783-007; ER06-45-001; ER08-203-001; ER02-855-008; ER01-2262-009; ER03-438-007.

Applicants: EPCOR Energy Marketing (US) Inc.; EPCOR Merchant and Capital (US) Inc.; EPCOR Energy Marketing (US) Inc., EPCOR POWER (CASTLETON) LLC; Primary Energy of North Carolina LLC; EPDC, Inc.; Frederickson Power L.P.; ManChief Power Company LLC.

Description: EPCOR Energy Marketing (US) Inc et al submit a notice of change in status re market-based rate authority.

Filed Date: 12/01/2008.

Accession Number: 20081205-0032.

Comment Date: 5 p.m. Eastern Time on Monday, December 22, 2008.

Docket Numbers: ER07-195-012.

Applicants: Locust Ridge Wind Farm, LLC.

Description: Notice of Change in Status of Locust Ridge Wind Farm, LLC.

Filed Date: 12/05/2008.

Accession Number: 20081205-5107.

Comment Date: 5 p.m. Eastern Time on Friday, December 26, 2008.

Docket Numbers: ER08-364-004.

Applicants: APX, Inc.

Description: APX, Inc submits a proposed revision to its FERC Electric Tariff, First Revised Volume 10.

Filed Date: 11/19/2008.

Accession Number: 20081124-0316.

Comment Date: 5 p.m. Eastern Time on Thursday, December 11, 2008.

Docket Numbers: ER08-1524-001.

Applicants: Duke Energy Carolinas, LLC.

Description: Duke Energy Carolinas, LLC submits Sub Original Sheet 55 to its 9/11/08 filing of Second Amended and Restated Partial Requirements Service Agreement with Rutherford Electric Membership Corp.

Filed Date: 12/03/2008.

Accession Number: 20081205-0031.

Comment Date: 5 p.m. Eastern Time on Wednesday, December 24, 2008.

Docket Numbers: ER09-187-001.

Applicants: Southern California Edison Company.

Description: Southern California Edison request that the Tariff Sheet be made effective on 1/1/09 the same date as the remainder of the filing.

Filed Date: 12/05/2008.

Accession Number: 20081208-0620.

Comment Date: 5 p.m. Eastern Time on Monday, December 15, 2008.

Docket Numbers: ER09-328-001.

Applicants: TransCanada Energy Sales Ltd.

Description: TransCanada Energy Sales Ltd submits an amendment to its Rate Schedule FERC No. 1.

Filed Date: 12/02/2008.

Accession Number: 20081205-0030.

Comment Date: 5 p.m. Eastern Time on Tuesday, December 12, 2008.

Docket Numbers: ER09-362-000.

Applicants: Carolina Power & Light Company.

Description: Carolina Power & Light Company et al submits revised Partial Requirements Service Agreement between Progress and Piedmont Electric Membership Corporation Rate Schedule FERC 172 etc.

Filed Date: 12/02/2008.

Accession Number: 20081204-0135.

Comment Date: 5 p.m. Eastern Time on Tuesday, December 23, 2008.

Docket Numbers: ER09-363-000.

Applicants: Mid Continent Area Power Pool.

Description: Mid Continent Area Power Pool submits revisions to its FERC Electric Tariff 1R1 et al.

Filed Date: 12/03/2008.

Accession Number: 20081204-0125.

Comment Date: 5 p.m. Eastern Time on Wednesday, December 24, 2008.

Docket Numbers: ER09-364-000.

Applicants: Edison Sault Electric Company.

Description: Edison Sault Electric Company submits Supplemental Agreement No 11 to the Contract for Electric Service, dated 11/21/08 etc.

Filed Date: 12/03/2008.

Accession Number: 20081204-0126.

Comment Date: 5 p.m. Eastern Time on Wednesday, December 24, 2008.

Docket Numbers: ER09-365-000.

Applicants: Florida Power & Light Company.

Description: Florida Power & Light Company submits Service Agreement No 265 between FPL and Georgia Transmission Corporation etc.

Filed Date: 12/03/2008.

Accession Number: 20081204-0127.

Comment Date: 5 p.m. Eastern Time on Wednesday, December 24, 2008.

Docket Numbers: ER09-366-000.

Applicants: PJM Interconnection, L.L.C.

Description: PJM Interconnection, LLC submits revisions to the PJM Open Access Transmission Tariff and on 12/8/09 PJM submit an errata to this filing.

Filed Date: 12/03/2008; 12/08/2008.

Accession Number: 20081204-0128; 20081208-5043.

Comment Date: 5 p.m. Eastern Time on Wednesday, December 24, 2008.

Docket Numbers: ER09-367-000.

Applicants: PJM Interconnection, L.L.C.

Description: PJM Interconnection, LLC submits amendments to the PJM Open Access Transmission Tariff to add a new Schedule 12A etc.

Filed Date: 12/02/2008.

Accession Number: 20081204-0129.

Comment Date: 5 p.m. Eastern Time on Tuesday, December 23, 2008.

Docket Numbers: ER09-368-000.

Applicants: PJM Interconnection, L.L.C.

Description: PJM Interconnection, LLC submits revised tariff sheets to the PJM Open Access Transmission Tariff, and the Amended and Restated Operating Agreement.

Filed Date: 12/02/2008.

Accession Number: 20081204-0130.

Comment Date: 5 p.m. Eastern Time on Tuesday, December 23, 2008.

Docket Numbers: ER09-369-000.

Applicants: PJM Interconnection, L.L.C.

Description: PJM Interconnection, LLC submits amendments to the PJM Open Access Transmission Tariff, Amended and Restated Operating Agreement etc.

Filed Date: 12/02/2008.

Accession Number: 20081204-0131.

Comment Date: 5 p.m. Eastern Time on Tuesday, December 23, 2008.

Docket Numbers: ER09-370-000.

Applicants: EPCOR USA North Carolina LLC.

Description: EPCOR USA North Carolina LLC submits a Notice of Name Change of Primary Energy of North Carolina LLC to EPCOR USA NC, et al.

Filed Date: 12/01/2008.

Accession Number: 20081204-0132.

Comment Date: 5 p.m. Eastern Time on Monday, December 22, 2008.

Docket Numbers: ER09-371-000.

Applicants: California Independent System Operator C.

Description: California Independent System Operator Corporation submits informational filing intended to provide notice regarding the CAISO's revised Transmission Access Charges, effective 9/1/08.

Filed Date: 12/02/2008.

Accession Number: 20081204-0133.

Comment Date: 5 p.m. Eastern Time on Tuesday, December 23, 2008.

Docket Numbers: ER09-372-000.

Applicants: Entergy Services, Inc.

Description: Entergy Services, Inc submits two amended Rate Schedules providing for power coordination and interchange services.

Filed Date: 12/04/2008.

Accession Number: 20081205-0191.

Comment Date: 5 p.m. Eastern Time on Friday, December 26, 2008.

Docket Numbers: ER09-373-000.

Applicants: Southern California Edison Company.

Description: Southern California Edison Co submits a revised rate sheet for the Communication Facilities Agreement with the City of Riverside.

Filed Date: 12/04/2008.

Accession Number: 20081205-0188.

Comment Date: 5 p.m. Eastern Time on Friday, December 26, 2008.

Docket Numbers: ER09-374-000.

Applicants: Wabash Valley Power Association, Inc.

Description: Wabash Valley Power Association, Inc submits Second Revised Sheet 47 et al to FERC Electric Tariff, Original Volume No. 1, effective 1/2/09.

Filed Date: 12/04/2008.

Accession Number: 20081205-0189.

Comment Date: 5 p.m. Eastern Time on Friday, December 26, 2008.

Docket Numbers: ER09-375-000.

Applicants: Black Hills Power, Inc.

Description: Black Hills Power, Inc submits First Revised Sheet No. 8 to FERC Electric Tariff, Original Volume 4, effective 12/5/08.

Filed Date: 12/04/2008.

Accession Number: 20081205-0190.

Comment Date: 5 p.m. Eastern Time on Friday, December 26, 2008.

Take notice that the Commission received the following open access transmission tariff filings:

Docket Numbers: OA08-71-002.

Applicants: Xcel Energy Services Inc.

Description: Xcel Energy Services Inc. files the Joint Open Access Transmission Tariff—First Revised Volume No. 1 Pursuant to Order No. 890 Compliance OATT Filing.

Filed Date: 12/05/2008.

Accession Number: 20081205-5069.

Comment Date: 5 p.m. Eastern Time on Friday, December 26, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Nathaniel J. Davis, Sr.,
Deputy Secretary.

[FR Doc. E8-29918 Filed 12-16-08; 8:45 am]

BILLING CODE 6717-01-P